NEIGHBORHOOD REINVESTMENT CORPORATION

Sunshine Act Meetings: Audit Committee Meeting

TIME AND DATE: 1:00 p.m., Friday, September 20, 2019.

PLACE: NeighborWorks America—Gramlich Boardroom, 999 North Capitol Street NE, Washington DC 20002.

STATUS: Open (with the exception of Executive Session).

MATTERS TO BE CONSIDERED: Consistent with the requirements of 5 U.S.C. 552 (b)(e), NeighborWorks America has submitted for publication in the Federal Register this notice of the Audit Committee Meeting that occurred on Tuesday, December 11, 2018. The Audit Committee determined by a recorded vote that business required that such meeting be called at such date, and made public announcement of the time, place, and subject matter of such meetingat the earliest practicable time.

The General Counsel of the Corporation has certified that in his opinion, one or more of the exemptions set forth in 5 U.S.C. 552 (b)(2) and (4) permit closure of the following portion(s) of this meeting:

• Internal Audit Report

Agenda

I. Call to Order

II. Executive Session

III. Auditor Rotation Policy

IV. Internal Audit Reports With Management's Response

V. Internal Audit Status Reports

VI. Adjournment

PORTIONS OPEN TO THE PUBLIC: Call to Order; Auditor Rotation Policy; Internal Audit Reports with Management's Response; Internal Audit Status Reports; and Adjournment.

PORTIONS CLOSED TO THE PUBLIC: Executive Session.

CONTACT PERSON FOR MORE INFORMATION: Rutledge Simmons, EVP & General Counsel/Secretary, (202) 760-4105; Rsimmons@nw.org.

Rutledge Simmons,
EVP & General Counsel/Corporate Secretary.

[FR Doc. 2019-20183 Filed 9-13-19; 4:15 pm]

BILLING CODE 7570-02-P